DEPARTMENT OF HEALTH AND HUMAN SERVICES

Food and Drug Administration

21 CFR Part 522

Implantation or Injectable Dosage Form New Animal Drugs; Lincomycin; Correction

AGENCY: Food and Drug Administration, HHS.

ACTION: Final rule; correction.

SUMMARY: The Food and Drug Administration (FDA) is correcting a document amending the animal drug regulations to reflect approval of an abbreviated new animal drug application (ANADA) that appeared in the Federal Register of September 1, 2006 (71 FR 51995). FDA is correcting the date of approval of an ANADA for a generic lincomycin injectable solution which was drafted in error. This correction is being made to improve the accuracy of the Federal Register.

DATES: This rule is effective November 7, 2006.

FOR FURTHER INFORMATION CONTACT: George K. Haibel, Center for Veterinary Medicine (HFV-6), Food and Drug Administration, 7519 Standish Pl., Rockville, MD 20855, 240-276-9019, e-mail: george.haibel@fda.hhs.gov.

SUPPLEMENTARY INFORMATION: In FR Doc. E6-14509, appearing on page 51995 in the Federal Register of September 1, 2006, the following correction is made:

1. On page 51995, in the third column, in the third sentence of the SUPPLEMENTARY INFORMATION section, the date of ANADA approval “July 27, 2006” is corrected to read “August 2, 2006”.

Dated: October 20, 2006.
Stephen F. Sundlof,
Director, Center for Veterinary Medicine.

[FR Doc. E6-18679 Filed 11-6-06; 8:45 am]

BILLING CODE 4160-01-S